FEDERAL COMMUNICATIONS COMMISSION

Notice of Public Information Collection(s) being Reviewed by the Federal Communications Commission

January 11, 2000.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before March 20, 2000. If you anticipate that you will be submitting comments, but find it difficult to do so within the period of time allowed by this notice, you should advise the contact listed below as soon as possible.

ADDRESSES: Direct all comments to Judy Boley, Federal Communications Commission, Room 1-C804, 445 12th Street, SW, DC 20554 or via the Internet to jboley@fcc.gov.

FOR FURTHER INFORMATION CONTACT: For additional information or copies of the information collection(s), contact Judy Boley at 202-418-0214 or via the Internet at jboley@fcc.gov.

SUPPLEMENTARY INFORMATION:

OMB Control No.: 3060-XXXX.

Title: Section 325(e) of the Communications Act, 47 U.S.C. Sec. 325(e), as added by Public Law 106-133, 113 Stat. 1501, Appendix I (1999), Section 1000(9) of the Satellite Home Viewer Improvement Act of 1999, as implemented by 47 CFR Section 1.6000, et seq.

Form No.: Not applicable.

Type of Review: New collection.

Respondents: Business or other for-profit

Number of Respondents: 8. Estimate 12 complaints per year per carrier.

Estimated Time Per Response: 2 hours.

Frequency of Response: On occasion reporting requirement.

Total Annual Burden: 192 hours.

Total Annual Cost: N/A.

Needs and Uses: This information collection is mandated under Section 325(e) of the Communications Act, 47 U.S.C. Sec. 325(e), as added by Public Law 106-133, 113 Stat. 1501, Appendix I (1999), Section 1000(9) of the Satellite Home Viewer Improvement Act of 1999, and as implemented by 47 CFR 1.6000 et seq.

Specifically, Section 1.6010 requires satellite carriers that have been found by the Commission to have violated the retransmission consent rule to report the remedial measures they have taken to achieve rule compliance.

Federal Communications Commission.
Magalie Roman Salas,
Secretary.

[FR Doc. 00-1334 Filed 1-19-00; 8:45 am]

BILLING CODE 6712-01-U